DEPARTMENT OF ENERGY

Notice of Solicitation of Nominations for Appointment as a Member of the Biomass Research and Development Technical Advisory Committee

AGENCY: Department of Energy.

ACTION: Notice of solicitation of nominations correction.

On July 20, 2009, the Department of Energy published a notice of solicitation of nominations for appointment as a member of the Biomass Research and Development Technical Advisory Committee 74 FR 35185. In that notice, the phone number under FOR FURTHER INFORMATION CONTACT Laura Neal is (202) 586-0937. Today's notice is announcing that Laura Neal can be reached at (202) 586-7766.

Issued in Washington, DC on July 31, 2009.
Rachel Samuel,
Deputy Committee Management Officer.

[FR Doc. E9-18811 Filed 8-5-09; 8:45 am]

BILLING CODE 6450-01-P